DEPARTMENT OF COMMERCE

National Oceanic and Atmospheric Administration

15 CFR Part 950

[Docket No. 210909-0180]

RIN 0648-BK67

Schedule of Fees for Access to NOAA Environmental Data, Information, and Related Products and Services

AGENCY: National Environmental Satellite, Data and Information Service (NESDIS), National Oceanic and Atmospheric Administration (NOAA), Department of Commerce.

ACTION: Final rule.

SUMMARY: In this final rule, NESDIS establishes a new schedule of fees for special access to NOAA data, information, and related products and services. NOAA continues to make its environmental data available to the public without any fee in most instances, primarily via NOAA's Comprehensive Large Array-Data Stewardship System (CLASS). NESDIS is revising the fee schedule that has been in effect since 2019 to ensure that the fees accurately reflect the costs of providing access to the environmental data, information, and related products and services. NESDIS is authorized to assess fees, up to fair market value, depending upon the user and intended use, for access to environmental data, information, and products derived from, collected, and/or archived by NOAA.

DATES: This rule is effective October 21, 2021.

FOR FURTHER INFORMATION CONTACT: Kelli Walters (202) 650-1129.

SUPPLEMENTARY INFORMATION:

Background

NESDIS operates NOAA's National Centers for Environmental Information (NCEI). Through NCEI, NESDIS provides and ensures timely access to global environmental data from satellites and other sources, provides information services, and develops science products.

NESDIS maintains some 1,300 databases containing over 2,400 environmental variables at NCEI and 7 World Data Centers. These centers respond to over 2,000,000 requests for these data and products annually from over 70 countries, the vast majority of which are fulfilled at no fee to the requestor via NOAA CLASS. This collection of environmental data and products is growing rapidly, both in size and sophistication, and as a result the associated costs have increased.

If CLASS is unable to meet a user's need, users have the ability to access the special data products described in the table below offline, online and through the NESDIS e-Commerce System (NeS) online store. Our ability to provide these special data, information, products and services depends on user fees.

New Fee Schedule

In this final rule, NESDIS establishes a new schedule of fees for access to these special data, information, and related products and services. NESDIS is revising the fee schedule that has been in effect since 2019 to ensure that the fees accurately reflect the costs of providing access to the environmental data, information, and related products and services. The new fee schedule lists both the current fee charged for each item and the new fee to be charged to users that will take effect October 21, 2021. The schedule applies to the listed services provided by NESDIS on or after this date, except for products and services covered by a subscription agreement in effect as of this date that extends beyond this date. In those cases, the increased fees will apply upon renewal of the subscription agreement or at the earliest amendment date provided by the agreement.

NESDIS will continue to review these user fees periodically, and will revise such fees as necessary. Any future changes in the user fees and their effective date will be announced through notice in the Federal Register.

Classification

This rule has been determined to be not significant for purposes of E.O. 12866. The provisions of the Administrative Procedure Act (5 U.S.C. 553) requiring notice of proposed rulemaking and the opportunity for public participation are inapplicable because this rule falls within the public property exception of subparagraph (a)(2) of section 553, as it relates only to the assessment of fees, as authorized by 15 U.S.C. 1534. Further, no other law requires that a notice of proposed rulemaking and an opportunity for public comment be given for this rule. Because a notice of proposed rulemaking and an opportunity for public comment are not required to be given for this rule under 5 U.S.C. 553 or by any other law, the requirements of the Regulatory Flexibility Act (5 U.S.C. 601 et seq.) are not applicable. Accordingly, no Regulatory Flexibility Analysis is required and none has been prepared.

List of Subjects in 15 CFR Part 950

Organization and functions (Government agencies).

Dated: September 14, 2021.
James Donnellon,
Chief, Financial Officer (CFO/CAO), National Environmental Satellite, Data and Information Service.

For the reasons set forth above, 15 CFR part 950 is amended as follows:

PART 950—ENVIRONMENTAL DATA AND INFORMATION

1. The authority citation for part 950 continues to read as follows:

Authority: 15 U.S.C. 1534.

2. Revise Appendix A to Part 950 to read as follows:

Appendix A to Part 950—Schedule of User Fees for Access to NOAA Environmental Data

Name of Product/Data/Publication/Information/Service: NOAA National Center for Environmental Information | Current fee | New fee
Department of Commerce Certification | $119.00 | $153.00
General Certification | 103.00 | 133.00
Paper Copy | 8.00 | 10.00
Data Poster | 17.00 | 15.00
Shipping Service | 8.00 | 10.00
Rush Order Fee | 63.00 | 65.00
Super Rush Order Fee | 105.00 | 109.00
Foreign Handling Fee | 45.00 | 47.00
NEXRAD Doppler Radar Color Prints | 22.00 | 27.00
Paper Copy from Electronic Media | 8.00 | 10.00
Offline In-Situ Digital Data | 127.00 | 113.00
Microfilm Copy (roll to paper) per frame from existing film | 20.00 | (*)
Satellite Image Product | 61.00 | 75.00
Offline Satellite, Radar, and Model Digital Data (average unit size is 1 terabyte) | 388.00 | 455.00
Conventional CD-ROM/DVD | 79.00 | 94.00
Specialized CD-ROM/DVD | 175.00 | 204.00
CD-ROM/DVD Copy, Offline | 62.00 | 76.00
CD-ROM/DVD Copy, Online Store | 28.00 | 34.00
Facsimile Service | 89.00 | (*)
Order Handling | 20.00 | 23.00
Non-Digital Order Consultation | 9.00 | 13.00
Digital Order Consultation | 26.00 | 31.00
Single Orbit OLS & Subset | 20.00 | 19.00
Single Orbit OLS & Subset, Additional Orbits | 6.00 | 7.00
Global Nighttime Lights Monthly Composite—one satellite | 8,705.00 | 9,508.00
Research Data Series CD-ROM/DVD | 25.00 | 20.00
High Definition Geomagnetic Model | 22,540.00 | 24,129.00
High Definition Geomagnetic Model—Real Time (HDGM-RT) | 29,059.00 | 30,915.00
Provision of Global Nighttime VIIRS day/night band data in geotiff format | 56,130.00 | (*)
Provision of Global Nighttime VIIRS day/night band data in HDF5 format | 29,975.00 | (*)
Provision of regional data from the VIIRS instrument on a daily basis | 14,720.00 | (*)
* Indicates a product no longer offered.

[FR Doc. 2021-20194 Filed 9-20-21; 8:45 am]

BILLING CODE 3510-HR-P